DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Alton & Southern Railway

[Waiver Petition Docket Number FRA-2009-0121]

The Alton & Southern Railway Company (ALS) has petitioned for a waiver of compliance from the requirements of Title 49 CFR 229.23(d)(f), 229.27(3), and 229.29(a) as it pertains to the physical recordkeeping requirements for 92-day periodic, annual, and biennial locomotive inspection reports at mechanical facilities where the inspections are performed, and for the maintenance of a copy of the locomotive inspection and repair record in the cab of the locomotive.

Through this waiver, for all locomotives leased from the Union Pacific Railroad Company, ALS seeks to complete and maintain an electronic report of each locomotive inspection report, repair record, and a hard copy. Pursuant to Title 49 CFR 229.23(d)(f), 229.27(3), and 229.29(a), this electronic report will be maintained in a centralized computer database for the required period, and a hard copy of the same report will be maintained in the cab of the locomotive.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0121) and may be submitted by any of the following methods:

1. Web site: http://www.regulations.gov. Follow the online instructions for submitting comments.

2. Fax: 202-493-2251.

3. Mail: Docket Operations Facility, U.S. Department of Transportation, 1200 New Jersey Avenue, SE., W12-140, Washington, DC 20590.

4. Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on December 28, 2009.
Grady C. Cothen, Jr.,
Deputy Associate Administrator for Safety Standards and Program Development.

[FR Doc. E9-31109 Filed 12-31-09; 8:45 am]

BILLING CODE 4910-06-P